DEPARTMENT OF COMMERCE

International Trade Administration

[A-552-816]

Welded Stainless Steel Pressure Pipe From the Socialist Republic of Vietnam: Final Results of Antidumping Duty Administrative Review; 2022-2023

AGENCY: Enforcement and Compliance, International Trade Administration, Department of Commerce.

SUMMARY: The U.S. Department of Commerce (Commerce) determines that Sonha SSP Vietnam Sole Member Company Limited (Sonha SSP) and Vinlong Stainless Steel (Vietnam) Co., Ltd. (Vinlong) sold subject merchandise to the United States at less than normal value (NV) during the period of review (POR) July 1, 2022, through June 30, 2023.

DATES: Applicable May 23, 2025.

FOR FURTHER INFORMATION CONTACT: Luke Caruso and Stephanie Trejo, AD/CVD Operations, Office IV, Enforcement and Compliance, International Trade Administration, U.S. Department of Commerce, 1401 Constitution Avenue NW, Washington, DC 20230; telephone: (202) 482-2081 and (202) 482-4390, respectively.

SUPPLEMENTARY INFORMATION:

Background

On August 13, 2024, Commerce published the Preliminary Results of the 2022-2023 administrative review of the antidumping duty order ¹ on welded stainless steel pressure pipe (welded pressure pipe) from the Socialist Republic of Vietnam (Vietnam) in the Federal Register and invited interested parties to comment.² On December 3, 2024, Commerce fully extended the deadline for the final results of this administrative review until February 10, 2025.³ On December 9, 2024, Commerce tolled certain deadlines in this administrative proceeding by ninety days.⁴ For a summary of the events that occurred since the Preliminary Results, see the Issues and Decision Memorandum.⁵ Commerce conducted this administrative review in accordance with section 751(a) of the Tariff Act of 1930, as amended (the Act).

¹ See Welded Stainless Pressure Pipe from Malaysia, Thailand, and the Socialist Republic of Vietnam: Antidumping Duty Orders, 79 FR 42289 (July 21, 2014) (Order).

² See Welded Stainless Steel Pressure Pipe from the Socialist Republic of Vietnam: Preliminary Results of Antidumping Duty Administrative Review; 2022-2023, 89 FR 65849 (August 13, 2024) (Preliminary Results), and accompanying Preliminary Decision Memorandum.

³ See Memorandum, “Extension of Deadline for Final Results of Antidumping Duty Administrative Review; 2022-2023” dated December 3, 2024.

⁴ See Memorandum, “Tolling of Deadlines for Antidumping and Countervailing Duty Proceedings,” dated December 9, 2024 .

⁵ See Memorandum, “Issues and Decision Memorandum for the Final Results of the Administrative Review of the Antidumping Duty Order on Welded Stainless Steel Pressure Pipe from the Socialist Republic of Vietnam; 2023-2023,” dated concurrently with, and hereby adopted by, this notice (Issues and Decision Memorandum).

Scope of the Order ⁶

⁶ See Order.

The merchandise covered by this Order is circular welded austenitic stainless pressure pipe, not greater than 14 inches in outside diameter, from Vietnam. For a full description of the scope of the Order, see the Issues and Decision Memorandum.

Vietnam-Wide Entity

Under Commerce's policy regarding the conditional review of the Vietnam-wide entity,⁷ the Vietnam-wide entity will not be under review unless a party specifically requests, or Commerce self-initiates, a review of the entity. Because no party requested a review of the Vietnam-wide entity in this review, the entity is not under review, and the entity's rate (i.e., 16.25) is not subject to change.⁸

⁷ See Antidumping Proceedings: Announcement of Change in Department Practice for Respondent Selection in Antidumping Duty Proceedings and Conditional Review of the Nonmarket Economy Entity in NME Antidumping Duty Proceedings, 78 FR 65963 (November 4, 2013).

⁸ See Order.

With the exception of Sonha SSP and Vinlong, Commerce considers all other companies for which a review was requested and initiated but did not demonstrate separate rate eligibility to be part of the Vietnam-wide entity.⁹ Therefore, for these final results, we continue to consider Mejonson Industrial Vietnam Co., Ltd., to be part of the Vietnam-wide entity because it did not file a separate rate application or certification.

⁹ See Initiation of Antidumping and Countervailing Duty Administrative Reviews, 88 FR 62322 (September 11, 2023).

Analysis of Comments Received

All issues raised in an interested party's case brief are addressed in the Issues and Decision Memorandum. A list of these issues is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Review

Based on an analysis of the comments received, we made one change to the margin calculation from the Preliminary Results for Sonha SSP.¹⁰ Additionally, we have continued to find that the application of facts available with an adverse inference is warranted for Vinlong Stainless.¹¹

¹⁰ See Issues and Decision Memorandum at Comment 5.

¹¹ Id. at 3-4.

Vietnam-Wide Entity

Because no party requested a review of the Vietnam-wide entity, and Commerce no longer considers the Vietnam-wide entity as an exporter conditionally subject to administrative reviews,¹² we did not conduct a review of the Vietnam-wide entity. Thus, the weighted-average dumping margin for the Vietnam-wide entity (i.e., 16.25 percent) ¹³ is not subject to change as a result of this review.

¹² See Antidumping Proceedings: Announcement of Change in Department Practice for Respondent Selection in Antidumping Duty Proceedings and Conditional Review of the Nonmarket Economy Entity in NME Antidumping Duty Proceedings, 78 FR 65963, 65969-70 (November 4, 2013).

¹³ See Order.

Final Results of Review

We determine that the following weighted-average dumping margin exists for the period July 1, 2022, through June 30, 2023:

Exporter | Weighted-average dumping margin (percent)
Sonha SSP Vietnam Sole Member Company Limited/Sonha International Corporation ¹⁴ | 144.59
Vinlong Stainless Steel (Vietnam) Co., Ltd | 144.59

Disclosure

¹⁴ We are treating these companies as a single entity for purposes of this review. For a complete discussion, see Memorandum, “Affiliation and Collapsing of Sonha International and Sonha SSP Vietnam Sole Member Company Limited,” dated August 6, 2024.

We intend to disclose the calculations performed for these final results of review to interested parties within five days of the date of publication of this notice in the Federal Register, in accordance with 19 CFR 351.224(b).

Assessment Rates

Pursuant to section 751(a)(2)(A) of the Act, and 19 CFR 351.212(b)(1), Commerce has determined, and U.S. Customs and Border Protections (CBP) shall assess, antidumping duties on all appropriate entries of subject merchandise in accordance with the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For Sonha SSP which has a final weighted-average dumping margin that is not zero or de minimis (i.e., less than 0.5 percent), we calculated importer-specific ad valorem duty assessment rates based on the ratio of the total amount of dumping calculated for each importer's examined sales and the total entered value of the sales, in accordance with 19 CFR 351.212(b)(1). Where the respondent did not report entered value, we will calculate importer-specific per-unit duty assessment rates based on the ratio of the total amount of antidumping duties calculated for the examined sales to the total quantity of those sales. Where an importer-specific assessment rate is de minimis (i.e., less than 0.5 percent), the entries by that importer will be liquidated without regard to antidumping duties.

Pursuant to Commerce's practice, we will instruct CBP to liquidate entries from Vinlong at 144.59 percent.

Pursuant to a refinement in our non-market economy practice, for sales that were not reported in the U.S. sales data submitted by Sonha SSP or Vinlong, we will instruct CBP to liquidate entries associated with those sales at the rate for the Vietnam-wide entity. For entries of subject merchandise during the POR produced by Sonha SSP or Vinlong for which it did not know its merchandise was destined for the United States, we intend to instruct CBP to liquidate such entries at the Vietnam-wide rate if there is no rate for the intermediate company or companies involved in the transaction.

Cash Deposit Requirements

The following deposit requirements will be effective upon publication of the final results of this administrative review for all shipments of the subject merchandise from Vietnam entered, or withdrawn from warehouse, for consumption on or after the publication date, as provided by section 751(a)(2)(C) of the Act: (1) for Sonha SSP and Vinlong Stainless the cash deposit rate will be the margin listed above; (2) for previously investigated or reviewed Vietnamese and non-Vietnamese exporters not listed above that have separate rates, the cash deposit rate will continue to be the exporter-specific rate published for the most recently completed segment of this proceeding in which they were reviewed; (3) for all Vietnamese exporters of subject merchandise that have not been found to be entitled to a separate rate, the cash deposit rate will be equal to the weighted-average dumping margin for the Vietnam-wide entity (i.e., 16.25 percent); ¹⁵ and (4) for all non-Vietnamese exporters of subject merchandise which have not received their own separate rate, the cash deposit rate will be the rate applicable to the Vietnamese exporter(s) that supplied that non-Vietnamese exporter. These cash deposit requirements, when imposed, shall remain in effect until further notice.

¹⁵ See Order.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

Commerce is issuing and publishing the final results of this review in accordance with sections 751(a)(1) and 777(i)(1) of the Act, and 19 CFR 351.221(b)(5).

Dated: May 12, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether Commerce Erred in Applying Adverse Facts Available to Vinlong

Comment 2: Surrogate Country Selection

Comment 3: Selection of Surrogate Financial Statements

Comment 4: Whether Certain Financial Statements are Suitable for Use

Comment 5: Whether Commerce Should Incorporate Electricity Obtained from Sonha SSP's Affiliated Supplier

Comment 6: Whether Commerce Should Coordinate with Customs and Border Protection Regarding Certain Entries of Vinlong

Comment 7: Whether Benchmark Selection Criteria from Countervailing Duty Proceedings Are Relevant for Surrogate Country Selection

Comment 8: Whether Commerce May Review Information Noted in Case Briefs That Were not Addressed in the Preliminary Results

Comment 9: Whether the Commerce Has Treated Respondents Fairly

VI. Recommendation

[FR Doc. 2025-09319 Filed 5-22-25; 8:45 am]

BILLING CODE 3510-DS-P